DEPARTMENT OF COMMERCE

International Trade Administration

[C-122-815 (alloy), C-122-815 (pure)]

Alloy Magnesium and Pure Magnesium From Canada; Preliminary Results of Full Sunset Reviews

AGENCY: Import Administration, International Trade Administration, Department of Commerce.

ACTION: Notice of Preliminary Results of Full Sunset Reviews: Alloy Magnesium and Pure Magnesium from Canada.

SUMMARY: On August 2, 1999, the Department of Commerce (“the Department”) initiated sunset reviews of the countervailing duty orders on alloy magnesium and pure magnesium from Canada (64 FR 41915) pursuant to section 751(c) of the Tariff Act of 1930, as amended (“the Act”). On the basis of a notice of intent to participate filed on behalf of the domestic industry and substantive comments filed on behalf of the domestic industry and respondent interested parties, the Department is conducting a full review. As a result of this review, the Department preliminarily finds that revocation of the countervailing duty orders would be likely to lead to continuation or recurrence of a countervailable subsidy. The net countervailable subsidy and the nature of the subsidy are identified in the Preliminary Results of Reviews section of this notice.

EFFECTIVE DATE: February 29, 2000.

FOR FURTHER INFORMATION CONTACT: Darla D. Brown or Melissa G. Skinner, Office of Policy for Import Administration, International Trade Administration, U.S. Department of Commerce, 14th & Constitution, Washington, D.C. 20230; telephone: (202) 482-3207 or (202) 482-1560, respectively.

SUPPLEMENTARY INFORMATION:

Statute and Regulations

This review is being conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and in 19 CFR Part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Background

On August 2, 1999, the Department initiated sunset reviews of the countervailing duty orders on alloy magnesium and pure magnesium from Canada (64 FR 41915), pursuant to section 751(c) of the Act. The Department received a notice of intent to participate on behalf of the Magnesium Corporation of America (“Magcorp”) on August 13, 1999, within the deadline specified in section 351.218(d)(1)(i) of the Sunset Regulations. Pursuant to 19 U.S.C. 1677(9)(C), Magcorp claimed interested party status as a domestic producer of the subject merchandise. Moreover, Magcorp stated that it was a petitioner in the original countervailing duty investigations and has participated in all of the administrative reviews conducted by the Department. The Department received a complete substantive response from Magcorp on September 1, 1999, within the 30-day deadline specified in the Sunset Regulations under section 351.218(d)(3)(i).

The Department also received a complete substantive response on behalf of NHCI on September 1, 1999, within the deadline specified in the Sunset Regulations under section 351.218(d)(3)(i). NHCI claimed interested party status under 19 U.S.C. 1677(9)(A) as a manufacturer and exporter of the subject merchandise to the United States. In its substantive response, NHCI stated that it participated in the original investigation and all of the subsequent administrative reviews.

In addition, the Department received a substantive response on behalf of the Government of Quebec (“GOQ”) on September 1, 1999, within the deadline specified in the Sunset Regulations under section 351.218(d)(3)(i). The GOQ claimed interested party status under 19 U.S.C. 1677(9)(B) as a provincial government of the country in which the subject merchandise is produced and from which it is exported. The GOQ also claimed interested party status under 19 U.S.C. 1677(3), as a political subdivision of Canada and, therefore, the “country” of Canada, where the subject merchandise is produced and from which it is exported.

The Department determined that NHCI's and the GOQ's responses constituted an adequate response to the notice of initiation. As a result, the Department determined, in accordance with section 351.218(e)(2) of the Sunset Regulations, to conduct full (240 day) reviews.¹

¹ See Memorandum to Jeffrey A. May, RE: Sunset Reviews of Alloy Magnesium and Pure Magnesium from Canada: Adequacy of Respondent Interested Party Response to the Notice of Initiation, September 21, 1999.

On September 13, 1999, the Department received rebuttal comments from Magcorp NHCI, and the GOQ.²

² On September 3, 1999, the Department received and granted a request from Magcorp for a five working-day extension of the deadline for filing rebuttal comments in this sunset review. This extension was granted for all participants eligible to file rebuttal comments in this review. The deadline for filing rebuttals to the substantive comments therefore became September 13, 1999.

In accordance with section 751(c)(5)(C)(v) of the Act, the Department may treat a sunset review as extraordinarily complicated if it is a review of a transition order (i.e., an order in effect on January 1, 1995). On November 30, 1999, the Department determined that the sunset reviews of the countervailing duty orders on alloy magnesium and pure magnesium from Canada are extraordinarily complicated pursuant to section 751(c)(5)(C)(v) of the Act, and extended the time limit for completion of the preliminary results of these reviews until not later than February 18, 2000, in accordance with section 751(c)(5)(B) of the Act.³

³ See Extension of Time Limit for Preliminary Results of Full Five-Year Reviews, 64 FR 66879 (November 30, 1999).

Scope

The products covered by these orders are pure magnesium and alloy magnesium from Canada. Pure magnesium contains at least 99.8 percent magnesium by weight and is sold in various slab and ingot forms and sizes. Magnesium alloys contain less than 99.8 percent magnesium by weight with magnesium being the largest metallic element in the alloy by weight, and are sold in various ingot and billet forms and sizes. The merchandise is currently classifiable under items 8104.11.0000 and 8104.19.0000 of the Harmonized Tariff Schedule of the United States (“HTSUS”). Although the HTSUS subheadings are provided for convenience and customs purposes, our written description of the scope remains dispositive. Secondary and granular magnesium are not included in the scope of these orders.

Analysis of Comments Received

All issues raised in the case and rebuttal briefs by parties to these sunset reviews are addressed in the “Issues and Decision Memorandum” (“Decision Memo”) from Jeffrey A. May, Director, Office of Policy, Import Administration, to Robert S. LaRussa, Assistant Secretary for Import Administration, dated February 18, 2000, which is hereby adopted and incorporated by reference into this notice. The issues discussed in the attached Decision Memo include the likelihood of continuation or recurrence of a countervailable subsidy, the net countervailable subsidy likely to prevail were the orders revoked, and the nature of the subsidy. Parties can find a complete discussion of all issues raised in this review and the corresponding recommendations in this public memorandum which is on file in B-099.

In addition, a complete version of the Decision Memo can be accessed directly on the Web at www.ita.doc.gov/import—admin/records/frn/, under the heading “Canada.” The paper copy and electronic version of the Decision Memorandum are identical in content.

Preliminary Results of Reviews

As a result of these reviews, the Department preliminarily finds that revocation of the countervailing duty orders would be likely to lead to continuation or recurrence of a countervailable subsidy. The net countervailable subsidy is 1.84 percent ad valorem for NHCI and 4.48 percent ad valorem for “all others.” Timminco, which was found to have an estimated net subsidy of zero in the original investigations, remains excluded from the orders.⁴

⁴ See Final Affirmative Countervailing Duty Determinations: Pure Magnesium and Alloy Magnesium from Canada, 57 FR 30946 (July 13, 1992).

Although the program included in our calculation of the net countervailable subsidy likely to prevail if the orders were revoked does not fall within the definition of an export subsidy under Article 3.1(a) of the Subsidies Agreement, it may be a subsidy described in Article 6, if the net countervailable subsidy exceeds 5 percent, as measured in accordance with Annex IV of the Subsidies Agreement. The Department, however, has no information with which to make such a calculation, nor do we believe it appropriate to attempt such a calculation in the course of a sunset review.⁵ Rather, we are providing the Commission the following program description.

⁵ Moreover, we note that as of January 1, 2000, Article 6.1 has ceased to apply (see Article 31 of the Subsidies Agreement).

Article 7 (“SDI”) Grants from the Quebec Industrial Development Corporation

Acting on special mandates from the GOQ, the SDI provides assistance under Article 7 in the form of loans, loan guarantees, grants, assumptions of costs on loans, and equity investments.

Any interested party may request a hearing within 30 days of publication of this notice in accordance with 19 CFR 351.310(c). Any hearing, if requested, will be held on April 19, 2000. Interested parties may submit case briefs no later than April 10, 2000, in accordance with 19 CFR 351.309(c)(1)(i). Rebuttal briefs, which must be limited to issues raised in the case briefs, may be filed not later than April 17, 2000. The Department will issue a notice of final results of this sunset review, which will include the results of its analysis of issues raised in any such comments, no later than June 27, 2000.

Dated: February 18, 2000.
Robert S. LaRussa,
Assistant Secretary for Import Administration.

[FR Doc. 00-4800 Filed 2-28-00; 8:45 am]

BILLING CODE 3510-DS-P